DEPARTMENT OF ENERGY

Federal Energy Regulatory Commission

[Project No. 14757-000]

Energy Resources USA, Inc.; Notice of Preliminary Permit Application Accepted for Filing and Soliciting Comments and Motions To Intervene

On February 19, 2016, Energy Resources USA, Inc. (Energy Resources) filed an application for a preliminary permit, pursuant to section 4(f) of the Federal Power Act (FPA), proposing to study the feasibility of the New Savannah Bluff Lock and Dam Hydroelectric Project (project) to be located at the U.S. Army Corps of Engineers' New Savannah Bluff Lock and Dam on the Savannah River in Aiken County, South Carolina. The sole purpose of a preliminary permit, if issued, is to grant the permit holder priority to file a license application during the permit term. A preliminary permit does not authorize the permit holder to perform any land-disturbing activities or otherwise enter upon lands or waters owned by others without the owners' express permission.

The proposed project would consist of the following: (1) A 300-foot-long, 90-foot-wide intake area; (2) a 98-foot-long, 45-foot-wide powerhouse containing two vertical Kaplan turbine-generator units with a total capacity of 8 megawatts; (3) a 350-foot-long, 120-foot-wide tailrace; (4) a 60-foot-long, 50-foot-wide substation; and (5) a 6.54-mile-long, 69 kV transmission line. The estimated annual generation of the project would be 68.5 gigawatt-hours, and would operate as directed by the U.S. Army Corps of Engineers.

Applicant Contact: Mr. Ander Gonzalez, Business Development Manager, Energy Resources USA, Inc., 350 Lincoln Road, 2nd floor, Miami, Florida 22139; phone: (954) 248-8425.

FERC Contact: Navreet Deo; phone: (202) 502-6304.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14757-000.

More information about this project, including a copy of the application, can be viewed or printed on the “eLibrary” link of Commission's Web site at http://www.ferc.gov/docs-filing/elibrary.asp. Enter the docket number (P-14757-000) in the docket number field to access the document. For assistance, contact FERC Online Support.

Dated: December 7, 2016.
Kimberly D. Bose,
Secretary.

[FR Doc. 2016-30067 Filed 12-14-16; 8:45 am]

BILLING CODE 6717-01-P